Title 3—

The President

Memorandum of May 24, 2016

Delegation of Authority Under Section 106 of the Bipartisan Congressional Trade Priorities and Accountability Act of 2015

Memorandum for the Secretary of State

By the authority vested in me as President by the Constitution and the laws of the United States of America, including section 301 of title 3, United States Code, I hereby delegate to you the functions and authorities vested in the President by section 106(b)(6)(B) and (C) of the Bipartisan Congressional Trade Priorities and Accountability Act of 2015 (Public Law 114-26, title I) (the “Act”), as added by section 914(e) of the Trade Facilitation and Trade Enforcement Act of 2015 (Public Law 114-125). In carrying out these functions, you will inform the United States Trade Representative at the earliest possible time of a decision to invoke an exception under section 106(b)(6)(B) of the Act.

In exercising authority delegated by or performing functions assigned in this memorandum, you may redelegate authority delegated by this memorandum and may further assign functions assigned by this memorandum to officers of any other department or agency within the executive branch to the extent permitted by law.

You are authorized and directed to publish this memorandum in the Federal Register.

THE WHITE HOUSE,

Washington, May 24, 2016

[FR Doc. 2016-13290

Filed 6-2-16; 8:45 am]

Billing code 4710-10-P